DEPARTMENT OF ENERGY

Federal Energy Regulatory Commission

[Docket No. EG04-38-000, et al.]

Redbud Energy LP, et al.; Electric Rate and Corporate Filings

March 9, 2004.

The following filings have been made with the Commission. The filings are listed in ascending order within each docket classification.

1. Redbud Energy LP

[Docket No. EG04-38-000]

Take notice that on March 5, 2004, Redbud Energy LP (Redbud) tendered for filing with the Commission an application for redetermination of exempt wholesale generator status pursuant to part 365 of the Commission's regulations.

Comment Date: March 26, 2004.

2. Covanta Union, Inc.

[Docket Nos. ER03-1085-002 and ER04-616-000]

Take notice that on March 3, 2004, Covanta Union, Inc. (Covanta Union) tendered for filing: (1) A notice of change in facts from those described in its application for authorization to sell power at market-based rates; (2) a triennial market power analysis; and (3) a revised market-based rate tariff in compliance with the Commission's order issued November 17, 2003, in Docket No. EL01-118-000, Investigation of Terms and Conditions of Public Utility Market-Based Rate Authorizations, 105 FERC ¶ 61,218 (2003). Covanta Union's filing also revises the format of its market-based rate tariff to comply with the Commission's rules in Order No. 614, Designation of Electric Rate Schedule Sheets, 90 FERC ¶ 61,352 (2000). Covanta Union requests an effective date of March 4, 2004, for the revisions to its market-based rate schedule.

Covanta Union states that a copy of this filing was served on the New Jersey Board of Public Utilities.

Comment Date: March 24, 2004.

3. FPL 251 Wind, LLC

[Docket No. ER04-124-001]

Take notice that on February 20, 2004, the FPL 251 Wind, LLC filed a withdrawal of their Rate Schedule Nos. 1 through 4.

Comment Date: March 22, 2004.

4. Mid-Continent Area Power Pool

[Docket No. ER04-155-001]

Take notice that on February 27, 2004, the Mid-Continent Area Power Pool (MAPP) submitted additional information regarding their November 4, 2003 filing of an amendment to section 21.2 of Schedule F, which governs modifications of transmission service on a firm basis. MAPP requests a March 1, 2004, effective date of the Schedule F amendment filed on November 4, 2003, and accepted by the Commission on December 11, 2003.

Comment Date: March 19, 2004.

5. New York Independent System Operator, Inc.

[Docket No. ER04-294-002]

Take notice that on March 5, 2004, the New York Independent System Operator, Inc. (NYISO) tendered for filing corrected tariff sheets to its Open Access Transmission Tariff (OATT) and Market Administration and Control Area Services Tariff (Services Tariff) filed March 3, 2004, in compliance with the Commission's February 2, 2004, order in Docket No. ER04-294-000.

NYISO states that copies of this filing have been served on all parties listed on the official service list maintained by the Secretary of the Commission in these proceedings. The NYISO has also served a copy of this filing to all parties that have executed Service Agreements under the NYISO's Open-Access Transmission Tariff or Services Tariff, the New York State Public Service Commission, and to the electric utility regulatory agencies in New Jersey and Pennsylvania.

Comment Date: March 26, 2004.

6. Consolidated Edison Company of New York, Inc.

[Docket No. ER04-621-000]

Take notice that on March 5, 2004, Consolidated Edison Company of New York, Inc. (Con Edison) tendered for filing an Interconnection Agreement by and between Con Edison and Astoria Energy LLC. Con Edison states that the agreement provides for the interconnection to Con Edison's transmission system of a 1,000 MW electric generating facility that Astoria Energy LLC proposes to construct and operate in the Borough of Queens, New York.

Con Edison states that copies of this filing have been served on Astoria Energy LLC and the New York Independent System Operator, Inc.

Comment Date: March 26, 2004.

7. Redbud Energy LP

[Docket No. ER04-622-000]

Take notice that on March 5, 2004, Redbud Energy LP (Redbud) tendered for filing its proposed tariff and supporting cost data for its proposed rates to recover costs associated with its ownership of a switchyard on the Oklahoma Gas & Electric Company transmission network. Redbud requests an effective date of May 4, 2004.

Comment Date: March 26, 2004.

8. New England Power Pool

[Docket No. ER04-623-000]

Take notice that on March 8, 2004, the New England Power Pool (NEPOOL) Participants Committee filed revisions to NEPOOL Market Rule 1 to allow Self-Scheduled generating Resources to receive in defined circumstances Operating Reserve Credits during non-Self-Scheduled hours. A March 1, 2004, effective date is requested.

The NEPOOL Participants Committee states that copies of these materials were sent to the NEPOOL Participants and the New England state governors and regulatory commissions.

Comment Date: March 29, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-564 Filed 3-15-04; 8:45 am]

BILLING CODE 6717-01-P